DEPARTMENT OF JUSTICE

Bureau of Prisons

28 CFR Part 544

[BOP-1036-F]

RIN 1120-AA33

Literacy Program

AGENCY: Bureau of Prisons, Justice.

ACTION: Final rule.

SUMMARY: This document finalizes the Bureau's Literacy Program regulations, published as an interim rule on September 26, 1997 (62 FR 50791). The Bureau amended its regulations on the literacy program for the sake of clarification or simplification.

DATES: This document is effective December 27, 2011.

ADDRESSES: Rules Unit, Office of General Counsel, Bureau of Prisons, 320 First Street NW., Washington, DC 20534.

FOR FURTHER INFORMATION CONTACT: Sarah Qureshi, Office of General Counsel, Bureau of Prisons, phone (202) 307-2105.

SUPPLEMENTARY INFORMATION: This document finalizes the Bureau's Literacy Program regulations, published as an interim rule on September 26, 1997 (62 FR 50791). In the interim rule document, the Bureau revised its regulations on the literacy program in order to include a definition of “satisfactory progress”. This definition is one determinant which is statutorily required for the awarding and/or vesting of good conduct time for certain inmates. The interim rule also further revised Bureau regulations on the literacy program for the sake of clarification or simplification.

No comments were received during the comment period for the interim rule. We therefore finalize the interim rule without change.

Executive Order 12866

This regulation falls within a category of actions that the Office of Management and Budget (OMB) has determined to constitute “significant regulatory actions” under section 3(f) of Executive Order 12866 and, accordingly, it was reviewed by OMB.

The Bureau of Prisons has assessed the costs and benefits of this regulation as required by Executive Order 12866 Section 1(b)(6) and has made a reasoned determination that the benefits of this regulation justify its costs. There will be no new costs associated with this regulation.

Executive Order 13132

This regulation will not have substantial direct effects on the States, on the relationship between the national government and the States, or on distribution of power and responsibilities among the various levels of government. Therefore, under Executive Order 13132, we determine that this regulation does not have sufficient Federalism implications to warrant the preparation of a Federalism Assessment.

Regulatory Flexibility Act

The Director of the Bureau of Prisons, under the Regulatory Flexibility Act (5 U.S.C. 605(b)), reviewed this regulation and by approving it certifies that it will not have a significant economic impact upon a substantial number of small entities for the following reasons: This regulation pertains to the correctional management of offenders and immigration detainees committed to the custody of the Attorney General or the Director of the Bureau of Prisons, and its economic impact is limited to the Bureau's appropriated funds.

Unfunded Mandates Reform Act of 1995

This regulation will not result in the expenditure by State, local and Tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

This regulation is not a major rule as defined by § 804 of the Small Business Regulatory Enforcement Fairness Act of 1996. This regulation will not result in an annual effect on the economy of $100,000,000 or more; a major increase in costs or prices; or significant adverse effects on competition, employment, investment, productivity, innovation, or on the ability of United States-based companies to compete with foreign-based companies in domestic and export markets.

List of Subjects in 28 CFR Part 540

Prisoners.

Accordingly, the interim rule published on September 26, 1997 (62 FR 50791) is published as final without change.

Thomas R. Kane,
Acting Director, Bureau of Prisons.

[FR Doc. 2011-30400 Filed 11-23-11; 8:45 am]

BILLING CODE P